DEPARTMENT OF LABOR

Employment and Training Administration

[TA-W-56,982]

Cooper Wiring Devices, Long Island City, NY; Notice of Termination of Investigation

Pursuant to Section 221 of the Trade Act of 1974, as amended, an investigation was initiated on April 15, 2005 in response to a worker petition filed by the United Auto Workers Local 365 on behalf of workers at Cooper Wiring Devices, Long Island City, New York.

The petitioners have requested that the petition be withdrawn. Consequently, the investigation has been terminated.

Signed at Washington, DC, this 3rd day of May, 2005.
Richard Church,
Certifying Officer, Division of Trade Adjustment Assistance.

[FR Doc. 05-9751 Filed 5-13-05; 8:45 am]

BILLING CODE 4510-30-M